DEPARTMENT OF TRANSPORTATION

Federal Highway Administration

Environmental Impact Statement, Seattle, WA

AGENCY: Federal Highway Administration (FHWA), USDOT.

ACTION: Revised notice of intent.

SUMMARY: The FHWA is issuing this revised notice of intent to inform the public, Tribes, and agencies of changes made to the initial Notice of Intent for a proposed highway project along SR 99 in Seattle, King County, Washington. The initial Notice of Intent announcing that an Environmental Impact Statement would be prepared for the project appeared in the Federal Register on June 22, 2001.

FOR FURTHER INFORMATION CONTACT: Barry Brecto (FHWA), 711 South Capitol Way, Suite 501, Olympia, Washington 98501 (telephone 360-753-9482); Kimberly Farley, WSDOT Urban Corridors Office, 401 Second Avenue South, Suite 560, Seattle, Washington 98104 (telephone 206-464-1227); and Sandra Gurkewitz, City of Seattle, 600 Fourth Avenue, Suite 401, Seattle, WA 98104 (telephone 206-684-8574).

SUPPLEMENTARY INFORMATION: The FHWA, Washington State Department of Transportation (WSDOT), and the City of Seattle will prepare an environmental impact statement (EIS) documenting the environmental impacts of alternatives to improve the Alaskan Way Seawall and existing SR 99 corridor that is partially served by the Alaskan Way Viaduct. The Alaskan Way Viaduct and Seawall are located in downtown Seattle, King County, Washington. The Alaskan Way Viaduct is one of two primary north-south limited access routes through downtown Seattle and is a vital link in the region's roadway system.

The purpose of the proposed action is to provide a transportation facility and seawall with improved earthquake resistance that maintains or improves mobility and accessibility for people and goods along the existing Alaskan Way Viaduct Corridor. The southern terminus of the project would be near S. Spokane Street. The north terminus would be Ward Street north of the existing Battery Street Tunnel.

Built in the 1950’s, the Alaskan Way Viaduct is past the halfway point in its 75-year design life, and it does not meet current seismic design standards. Additionally, the soils around the foundations of the Alaskan Way Viaduct consist of former tidal flats covered with wet, loose fill material subject to liquifaction. The Alaskan Way Seawall, which is also vulnerable to earthquakes, holds these soils in place along the majority of the Alaskan Way Viaduct Corridor. Built in the 1930's, the Alaskan Way Seawall is in a state of disrepair and also does not meet current seismic design standards.

In addition, the Viaduct does not meet current roadway design standards for lane widths, shoulders, and ramp sight distances and tapers. These roadway deficiencies contribute to the high number and severity of traffic accidents on the Alaskan Way Viaduct. Four areas along this section of SR 99 are designated High Accident Locations.

Preliminary alternatives under early consideration include: Taking no action, replacing the Viaduct and Seawall in-kind, replacing the Viaduct and Seawall with a new elevated structure and a new seawall, replacing the Viaduct and Seawall with a tunnel, replacing the viaduct with a surface street, adding transit components, or combinations of these solutions.

The lead agencies have preliminarily identified the following key areas for discussion in the EIS:

• Local and regional transportation system

• Pioneer Square and Pike Place historic districts

• Neighborhoods, businesses, and residences

• Port of Seattle and Washington State Ferry operations

• Construction impacts along the Elliott Bay shoreline

Letters soliciting comments on the scope of the EIS, the purpose, need, and potential alternatives have been sent to appropriate Federal, State, and local agencies, and Tribes. Two meetings were held to identify the scope of issues to be addressed, the major impacts, and the potential alternative. Both meetings were conducted on June 28, 2001, at the Mountaineers Club, Olympus Room 300 Third Avenue West, Seattle, Washington. The first meeting, from 1 to 4 p.m., focused on input from agencies and Tribes. The second meeting from 5 to 8 p.m. was primarily for the public. In addition, a public hearing will be held following circulation of the draft EIS.

Comments and questions concerning this action and the EIS should be directed to FHWA, WSDOT, or the City of Seattle at the addresses provided above.

(Catalog of Federal Domestic Assistance Program Number 20.205, Highway Research, Planning and Construction. The regulations implementing Executive Order 12372 regarding intergovernmental consultation of Federal programs and activities apply to this program)
Issued on: September 19, 2003.
Mary E. Gray,
Environmental Program Specialist, Olympia, Washington.

[FR Doc. 03-24345 Filed 9-25-03; 8:45 am]

BILLING CODE 4910-22-M